ENVIRONMENTAL PROTECTION AGENCY

40 CFR Part 257

[EPA-HQ-OLEM-2025-2864; FRL-12968-03-OLEM]

RIN 2050-AH42

Hazardous and Solid Waste Management System: Disposal of Coal Combustion Residuals From Electric Utilities; Extension of an Alternative Closure Requirement Deadline; Extension of Comment Period

AGENCY: Environmental Protection Agency (EPA).

ACTION: Proposed rule; extension of comment period.

SUMMARY: The Environmental Protection Agency (EPA or the Agency) is extending the comment period for the proposed rule entitled “Hazardous and Solid Waste Management System: Disposal of Coal Combustion Residuals From Electric Utilities; Extension of an Alternative Closure Requirement Deadline.” EPA is extending the comment period until February 6, 2026, in response to stakeholders' requests for a comment period extension.

DATES: The comment period for the proposed rule published on November 28, 2025 (90 FR 54611) was originally scheduled to close on January 7, 2026, but the comment period is being extended by 30 days. Comments must be received on or before February 6, 2026.

ADDRESSES: Submit your comments, identified by Docket ID No. EPA-HQ-OLEM-2025-2864, online at https://www.regulations.gov. Follow the detailed online instructions provided under ADDRESSES in the Federal Register document published on November 28, 2025 (90 FR 54611). Do not submit electronically any information you consider to be Confidential Business Information (CBI) or other information whose disclosure is restricted by statute. Additional instruction on commenting and visiting the docket, along with more information about dockets generally, is available at https://www.epa.gov/dockets.

FOR FURTHER INFORMATION CONTACT: Patrick Wise, Office of Resource Conservation and Recovery, Waste Identification, Notice, and Generators Division, Environmental Protection Agency, 1200 Pennsylvania Avenue NW, MC: 5304T, Washington, DC 20460; telephone number: (202) 566-0520; email address: wise.patrick@epa.gov, or Frank Behan, Office of Resource Conservation and Recovery, Waste Identification, Notice, and Generators Division, Environmental Protection Agency, 1200 Pennsylvania Avenue NW, MC: 5304T, Washington, DC 20460; telephone number: (202) 566-0531; email address: behan.frank@epa.gov. For more information on this rulemaking please visit https://www.epa.gov/coal-combustion-residuals.

SUPPLEMENTARY INFORMATION: On November 28, 2025, EPA published a proposed rule (90 FR 54611) entitled “Hazardous and Solid Waste Management System: Disposal of Coal Combustion Residuals From Electric Utilities; Extension of an Alternative Closure Requirement Deadline.” The original deadline to submit comments was January 7, 2026. On December 5, 2025 and December 8, 2025, EPA received requests for the Agency to extend the comment period.

In response to the request for a comment period extension, this action extends the comment period of the proposed rule by 30 days. Written comments must now be received by February 6, 2026.

EPA previously announced that it will hold a virtual public hearing beginning at 9 a.m. Eastern Time on January 6, 2026 (90 FR 54611). This action does not affect the timing of the virtual public hearing. Nonetheless, the public is encouraged to monitor EPA's website (https://www.epa.gov/coal-combustion-residuals) to determine if there are any relevant announcements or changes related to the hearing.

To submit comments or access the docket, please follow the detailed instructions provided under ADDRESSES in the Federal Register document published on November 28, 2025 (90 FR 54611). Comments previously submitted need not be resubmitted as they are already incorporated into the public record and will be considered in the final action as appropriate. If you have questions, consult the people listed under FOR FURTHER INFORMATION CONTACT.

John W. Busterud,
Assistant Administrator, Office of Land and Emergency Management.

[FR Doc. 2026-00084 Filed 1-6-26; 8:45 am]

BILLING CODE 6560-50-P